DEPARTMENT OF HEALTH AND HUMAN SERVICES

Substance Abuse and Mental Health Services Administration

Notice Regarding Substance Abuse and Mental Health Services Administration's National Registry of Evidence-Based Programs and Practices (NREPP): Priorities for NREPP Reviews

SUMMARY: The Substance Abuse and Mental Health Services Administration (SAMHSA) is committed to preventing the onset and reducing the progression of mental illness, substance abuse, and substance-related problems among all individuals, including youth. As part of this effort, SAMHSA has expanded and refined the agency's National Registry of Evidence-based Programs and Practices (NREPP). Two previous notices announcing these changes have been published in the Federal Register (70 FR 50381, Aug. 26, 2005; 71 FR 13133, Mar. 14, 2006). A third notice announced the first open submission period, October 1, 2006, through February 1, 2007 (71 FR 37590, June 30, 2006).

This notice explains how SAMHSA and its three Centers will prioritize interventions submitted for NREPP reviews during fiscal year 2008 and provides guidance on the submission process. This information can be helpful to individuals and organizations seeking to have an intervention reviewed and described on the NREPP Web site.

FOR FURTHER INFORMATION CONTACT: Kevin D. Hennessy, PhD, Science to Service Coordinator/SAMHSA, 1 Choke Cherry Road, Room 8-1017, Rockville, MD 20857, (240) 276-2234.

Dated: May 25, 2007.
Terry L. Cline,
Administrator, SAMHAS.

Substance Abuse and Mental Health Services Administration's National Registry of Evidence-Based Programs and Practices (NREPP): Priorities for NREPP Reviews

Background

The Substance Abuse and Mental Health Services Administration's (SAMHSA) National Registry of Evidence-based Programs and Practices (NREPP) is a voluntary rating system designed to provide the public with reliable information on the scientific basis and practicality of interventions that prevent and/or treat mental health and substance use disorders. Descriptive information and quantitative ratings are provided across several key areas for all interventions reviewed by NREPP. This information is available to the public through a new NREPP Web site (http://www.nrepp.samhsa.gov).

Public input from a range of stakeholders has improved NREPP's accessibility and usefulness as a “decision support tool” to help States, Territories, community-based organizations, and other interested stakeholders identify interventions that may meet their needs. NREPP provides useful information—including ratings on the quality of research and readiness for dissemination—to assist individuals and organizations in identifying interventions that may address their particular needs and match their specific capacities and resources.

Each of SAMHSA's Centers—the Center for Substance Abuse Prevention, the Center for Substance Abuse Treatment, and the Center for Mental Health Services—has established annual review priorities regarding the types of interventions to be included in NREPP. In general, these priorities represent the interests and needs of relevant stakeholders and reflect SAMHSA's matrix and grant priorities.

This notice describes the Centers' priorities for fiscal year 2008 and provides guidance to individuals and organizations who may be considering submitting an intervention for NREPP review.

SAMHSA's NREPP Priorities

SAMHSA is prioritizing for NREPP review interventions that prevent and treat mental and/or substance use disorders. For NREPP purposes, SAMHSA defines interventions as programs, practices, and/or environmental strategies designed to change behavioral outcomes among a definable population or within a definable geographic area.

Minimum Requirements for NREPP Review

Individuals and organizations interested in submitting an intervention for review must first document that the intervention meets the following three requirements:

1. The intervention demonstrates one or more positive outcomes (p ≤ .05) in mental health and/or substance use behavior among individuals, communities, or populations.

2. Intervention results have been published in a peer-reviewed publication or documented in a comprehensive evaluation report.

3. Documentation (e.g., manuals, process guides, tools, training materials) of the intervention and its proper implementation is available to the public to facilitate dissemination.

Interventions that do not meet all three of these minimum requirements will not be considered for NREPP review.

SAMHSA particularly encourages submissions of gender and culturally appropriate interventions that specifically target the following underserved populations: American Indian/Alaska Native, Asian American, Black or African American, Hispanic or Latino, and Native Hawaiian or other Pacific Islander.

Priority Review Points

Interventions that meet the three minimum requirements may be awarded points that will help determine their prioritization for potential NREPP review. Interventions will receive 1 priority point, and thus higher priority for potential NREPP review, if they have been evaluated using a quasi-experimental or experimental study design. Such studies may include a pre/post design with a comparison or control group or a longitudinal/time series design. Time series designs must include at least three preintervention or baseline measurements and at least three postintervention or follow-up measurements. An additional priority point may be obtained if at least one primary outcome of the submitted intervention falls within any of the current SAMHSA Center Priority Areas. The Priority Areas for fiscal year 2008 for each of SAMHSA's three Cnters are listed below.

Center for Substance Abuse Prevention (CSAP)

CSAP strives to expand and enhance the development of comprehensive, integrated systems and services within all States, Tribes, and jurisdictions that promote community and personal health and wellness and prevent substance abuse and mental disorders. In support of this goal, CSAP Priority Areas focus on comprehensive community-based approaches and innovative interventions that:

• Prevent and/or reduce substance abuse and its related problems—e.g., underage drinking, inhalant abuse, cannabis use and abuse, drug-related suicide, alcohol and drug abuse among young adults, misuse of alcohol and prescription drugs among the elderly, and HIV/substance abuse problems.

• Reduce risk factors and/or increase protective factors (factors known to contribute to positive changes in substance abuse behaviors).

• Address emerging substance abuse problems—e.g., methamphetamine use, abuse of over-the-counter and prescription drugs, use of fentanyl and other synthetic drugs.

Center for Substance Abuse Treatment (CSAT)

CSAT Priority Areas focus on interventions to treat adolescents and adults with alcohol and/or drug disorders, including interventions developed or adapted for special populations (e.g., American Indians/Alaska Natives, other minorities), that are delivered as part of one or more of the following types of services:

• Screening and brief intervention in general health care settings.

• Outreach and engagement for drug-dependent populations, including persons with or at risk for HIV.

• Treatment and rehabilitation, including behavioral interventions alone or in combination with pharmacological treatment.

• Treatment and rehabilitation for individuals involved in the criminal justice system.

• Recovery support and/or continuing care.

Center for Mental Health Services (CMHS)

CMHS Priority Areas focus on interventions to:

• Foster consumer- and family-provided mental health services, excluding school-based services.

• Reduce the effects of trauma on the mental well-being of children, adolescents, and adults.

• Promote employment among individuals with serious mental illness.

• Provide treatment for mental illnesses in settings that are either integrated or closely coordinated with primary care.

• Divert adults with serious mental illness and/or children and adolescents with serious emotional disturbances from criminal and juvenile justice systems.

• Develop alternatives to the use of seclusion and restraint for adults with serious mental illness and/or children and adolescents with serious emotional disturbances.

• Prevent suicide in specific age groups (i.e., adolescents, young adults, elders).

Exclusions From NREPP

The following types of interventions are not eligible for review and should not be submitted to NREPP:

1. Stand-alone pharmacologic treatments—The evidence base for pharmacologic treatments is reviewed and approved through the U.S. Food and Drug Administration (FDA). NREPP reviews will be limited to on-label use of FDA-approved pharmacotherapy interventions that are combined with one or more psychosocial treatments.

2. Stand-along smoking prevention and/or cessation interventions—These interventions are appropriate for NREPP review only when they are conducted as part of a program addressing the prevention and/or treatment of alcohol or other drugs of abuse.

Availability of NREPP Review Funds

The number of reviews conducted by NREPP in any given year is contingent on both the total number of submissions received and the availability of NREPP contract resources. SAMHSA cannot guarantee the review of any specific submission.

Submission Guidance

SAMHSA has established a 4-month period for receipt of NREPP submissions in fiscal year 2008 that will begin October 1, 2007, and end February 1, 2008. Interventions submitted after February 1, 2008, will not be considered for NREPP review during this fiscal year. Interventions not selected for review may be resubmitted again in the next open submission period provided they meet NREPP's minimum requirements. All submissions must be made by the intervention developer or principal investigator. Third parties may submit an intervention, but documentation must be provided to NREPP confirming that the intervention developer or principal investigator has formally authorized the third-party submission.

To be considered for potential review, interventions must demonstrate that they meet NREPP's three minimum requirements. Table 1 depicts the types of documentation that should be submitted so that NREPP staff can accurately assess whether the intervention meets these requirements.

If an intervention is accepted for review, additional supporting documentation and three copies of all hard-copy dissemination materials will need to be submitted.

Table 1.—Suggested Documentation Indicating Compliance With Minimum Requirements
Minimum requirement | Suggested supporting documentation
1. The intervention demonstrates one or more positive outcomes (p ≤ .05) related to mental health and/or substance use behaviors | Full-text electronic or hard copies of: • Research articles. • Published and/or unpublished evaluation reports. • Grant final reports. • Replication studies. Note: Abstracts or URLs to partial articles are regarded as incomplete and will not be considered.
2. Intervention results have been published in a peer-reviewed publication or documented in a comprehensive evaluation report. A comprehensive evaluation report has the following components: Review of the literature, theoretical framework, purpose, methodology, findings/results, discussion, and conclusions
3. Documentation of the intervention and its implementation is available to the public to facilitate dissemination | • List of dissemination materials (e.g., manuals, process guides, tools, training materials, quality assurance protocols) that are available to the public. • Materials catalog. • Program Web site.

Selection and Ordering of Reviews

All submitted interventions meeting NREPP's minimum requirements will be considered for NREPP review. The selection of interventions and order of reviews will be determined in part by a system of priority points on the SAMHSA Center Priority Areas described above. Interventions awarded 2 priority points have higher priority than those awarded 1 priority point, and interventions awarded 1 priority point have higher priority than those awarded 0 priority points. In addition, SAMHSA reserves the right to select interventions based on other factors to ensure that NREPP provides a balanced portfolio of information relating to the prevention and/or treatment of mental health and/or substance use disorders.

NREPP submissions not selected for review will be returned to the applicant. These submissions will not automatically be considered for review in subsequent submission cycles; however, applicants may choose to resubmit their intervention at a later date.

The number of reviews that NREPP actually undertakes in any given year will depend upon available contract resources.

Contact Regarding Submissions

Individuals and organizations interested in submitting an intervention should contact the NREPP contractor, MANILA Consulting Group, to express their interest. Staff from MANILA will provide further guidance and details about the submission process as appropriate. Electronic correspondence (e-mail) is preferred and can be sent to nrepp@samhsa.hhs.gov. Interested parties can also contact MANILA by phone at (571) 633-9797, ext. 406.

[FR Doc. 07-2739 Filed 6-1-07; 8:45 am]

BILLING CODE 4160-01-M